DEPARTMENT OF THE INTERIOR

Bureau of Land Management

[ID-933-1430-ET; IDI-15630 et al.]

Public Land Order No. 7437; Modification and Partial Revocation of Executive Orders; Idaho

AGENCY: Bureau of Land Management, Interior.

ACTION: Public Land Order.

SUMMARY: This order modifies 5 Executive orders to establish a 20-year term as to 8,040.07 acres of lands withdrawn for the Bureau of Land Management for use as Powersite Reserves. This order also partially revokes 3 of the Executive orders insofar as they affect 3,443 acres and opens 277.30 acres to surface entry. The remaining 3,165.70 acres have been conveyed out of Federal ownership. All of the lands in Federal ownership have been and will remain open to mining and mineral leasing.

EFFECTIVE DATE: April 24, 2000.

FOR FURTHER INFORMATION CONTACT: Jackie Simmons, BLM Idaho State Office, 1387 S. Vinnell Way, Boise, Idaho 83709, 208-373-3867.

By virtue of the authority vested in the Secretary of the Interior by Section 204 of the Federal Land Policy and Management Act of 1976, 43 U.S.C. 1714 (1994), it is ordered as follows:

1. The following Executive orders are hereby modified to expire 20 years from the effective date of this order unless as a result of a review conducted before the expiration date pursuant to Section 204(f) of the Federal Land Policy and Management Act of 1976, 43 U.S.C. 1714(f) (1994), the Secretary determines that the withdrawals shall be extended insofar as they affect the following described lands:

Boise Meridian

Executive Order dated November 21, 1916, Powersite Reserve No. 565 (IDI-15630)

T. 9 S., R. 16 E.,

Sec. 15, lot 8;

Sec. 16, lots 7 to 16, inclusive;

Sec. 17, lots 11 to 14, inclusive;

Sec. 21, lot 3;

Sec. 22, lots 5 to 12, inclusive;

Sec. 23, lots 10 to 19, inclusive;

Sec. 24, lots 10 to 15, inclusive;

Sec. 25, lots 4, 5, and 6.

T. 9 S., R. 17 E.,

Sec. 19, lots 8 to 13, inclusive, and SE¼SE¼;

Sec. 20, lots 3 and 4;

Sec. 28, lots 7 to 12, inclusive;

Sec. 29, lots 8 to 12, inclusive;

Sec. 30, lots 8 to 13, inclusive;

Sec. 33, lots 6 and 7 and NE¼NE¼;

Sec. 34, lot 11, and portions of lots 12 to 17, inclusive;

Sec. 35, portions of lots 10 to 13, inclusive, and portion of SE¼NW¼;

Sec. 36, lots 10, 11, 12, 14, and portion of lot 15.

T. 9 S., R. 18 E.,

Sec. 31, lots 4 and 5;

Sec. 32, lot 5 and N½NW¼;

Sec. 33, lots 1 and 2, SE¼SW¼, and SW¼SE¼.

T. 10 S., R. 18 E.,

Sec. 3, lot 9, and SW¼NW¼;

Sec. 4, lots 1, 2, and 4.

T. 10 S., R. 21 E.,

Sec. 29, lots 10, 11, and 12, SW¼NW¼, and W½SE¼NW¼.

Executive Order dated July 2, 1910, Powersite Reserve No. 120 (IDI-15632)

T. 8 S., R. 30 E.,

Sec. 1, lots 4 to 7, inclusive;

Sec. 10, lots 2 to 5, inclusive, and W½SW¼;

Sec. 11, lot 5, and NW¼NW¼;

Sec. 12, lots 2 and 3, and SE¼NW¼;

Sec. 15, lots 5, 6, and 7, and NW¼NW¼;

Sec. 22, lot 4 and SE¼SW¼.

Executive Order dated July 2, 1910, Powersite Reserve No. 91 (IDI-15634)

T. 45 N., R. 3 E.,

Sec. 4, lots 11, 12, 14, and island adjacent thereto;

Sec. 9, lots 1 to 6, inclusive;

Sec. 10, lots 1 to 5, inclusive;

Sec. 11, lots 3 and 4;

Sec. 13, lots 1 to 4, inclusive, lots 9, 11, 12, and 13, S½NW¼, and NW¼SE¼;

Sec. 14, lot 3 and E½NW¼.

T. 45 N., R. 4 E.,

Sec. 11, lots 3 and 4;

Sec. 14, lot 3;

Sec. 17, lots 1 to 10, inclusive, and SW¼NE¼;

Sec. 18, lot 7 and SW¼NE¼.

Executive Order dated July 2, 1910, Powersite Reserve No. 21 (IDI-15636)

T. 7 N., R. 2 E.,

Sec. 10, lots 1 and 2;

Sec. 11, lots 4 and 5;

Sec. 14, lots 1, 2, 4, and NW¼SW¼;

Sec. 15, lots 1 to 5, inclusive;

Sec. 22, NE¼NE¼;

Sec. 23, lot 10;

Sec. 32, lots 3, 4, and 8, and N½SE¼;

Sec. 33, lots 1 and 2.

Executive Order dated December 19, 1910, Powersite Reserve No. 165 (IDI-15650)

T. 2 S., R. 38 E.,

Sec. 7, lots 3, 4, and 5;

Sec. 8, lots 1 and 2;

Sec. 17, lot 1;

Sec. 29, lots 1, 2, and 3;

Sec. 33, lots 4 and 5, and NE¼SE¼.

T. 3 S., R. 38 E.,

Sec. 4, lots 8 to 11, inclusive;

Sec. 9, lot 3;

Sec. 10, lots 5 to 9, inclusive;

Sec. 11, lots 3 to 6, inclusive;

Sec. 13, lots 5 to 9, inclusive;

Sec. 14, lot 3;

Sec. 24, lots 6 and 7.

T. 3 S., R. 39 E.,

Sec. 19, lots 2 and 3, SE¼NW¼, SW¼NE¼, NE¼SW¼, N½SE¼, and SE¼SE¼;

Sec. 20, SW¼SW¼;

Sec. 29, N½NW¼, SE¼NW¼, and SE¼;

Sec. 32, NE¼ and NE¼SE¼;

Sec. 33, N½SW¼ and SE¼SW¼.

T. 4 S., R. 39 E.,

Sec. 4, W½NE¼, NE¼NW¼, S½NW¼, N½SW¼, and SW¼SW¼;

Sec. 5, S½SE¼;

Sec. 7, S½SE¼;

Sec. 8, N½NE¼, NE¼NW¼, S½NW¼, and N½SW¼;

Sec. 17, SW¼NW¼ and NW¼SW¼;

Sec. 20, SW¼NW¼, N½SW¼, and SE¼SW¼.

The areas described aggregate 8,040.07 acres in Jerome, Twin Falls, Power, Shoshone, Boise, and Bingham Counties.

The lands described above continue to be withdrawn from surface entry, but not mining or mineral leasing, to protect the waterpower values.

2. The Executive Order dated July 2, 1910, which established Powersite Reserve No. 21 (IDI-15636), is hereby revoked insofar as it affects the following described lands:

Boise Meridian

T. 8 N., R. 3 E.,

Sec. 5, lots 7, 8, and 9;

Sec. 8, lots 3, 4, 7, and 8;

Sec. 17, lots 1 and 2;

Sec. 18, lots 5, 6, 7, and 11;

Sec. 19, lots 1 and 2.

The areas described aggregate 277.30 acres in Boise County.

3. The following Executive orders are hereby revoked insofar as they affect the following described lands:

Boise Meridian

Executive Order dated July 2, 1910, Powersite Reserve No. 91 (IDI-15634)

T. 45 N., R. 3 E.,

Sec. 5, lot 10 and NW¼SW¼;

Sec. 10, lot 6;

Sec. 11, lots 1 and 2;

Sec. 13, lots 5 to 8, inclusive, lot 10, and SW¼NE¼.

Executive Order dated July 2, 1910, Powersite Reserve No. 21 (IDI-15636)

T. 7 N., R. 2 E.,

Sec. 30, lots 3, 4, and 5;

Sec. 31, lots 1 and 2, lots 5 to 9, inclusive, and SE¼NW¼.

T. 8 N., R. 2 E.,

Sec. 24, lots 1 to 7, inclusive;

Sec. 25, lots 1, 2, and 3, and NW¼NE¼;

Sec. 26, lots 1 to 5, inclusive.

T. 8 N., R. 3 E.,

Sec. 5, lots 1 and 10;

Sec. 8, lots 2, 5, and 6;

Sec. 17, lots 3 to 6, inclusive;

Sec. 18, lots 9 and 10;

Sec. 19, lots 3, 5, 6, and NW¼NE¼.

Executive Order dated December 19, 1910, Powersite Reserve No. 165 (IDI-15650)

T. 2 S., R. 38 E.,

Sec. 29, lot 4;

Sec. 33, lots 1 and 3.

T. 4 S., R. 39 E.

Sec. 8, SW¼SW¼;

Sec. 18, E½E½;

Sec. 19, E½NE¼.

The areas described aggregate 3,165.70 acres in Shoshone, Boise and Bingham Counties.

4. At 9 a.m. on April 24, 2000, the lands described in Paragraph 2, shall be opened to the operation of the public land laws generally, subject to valid existing rights, the provisions of existing withdrawals, other segregations of record, and the requirements of applicable law. All valid applications received at or prior to 9 a.m. on April 24, 2000, shall be considered as simultaneously filed at that time. Those received thereafter shall be considered in the order of filing.

5. The lands described in Paragragh 3 have been conveyed out of Federal ownership.

Dated: March 10, 2000.
Kevin Gover,
Assistant Secretary of the Interior.

[FR Doc. 00-7320 Filed 3-23-00; 8:45 am]

BILLING CODE 4310-GG-P